DEPARTMENT OF HOMELAND SECURITY

Coast Guard

33 CFR Part 117

[Docket No. USCG-2008-0848]

Drawbridge Operation Regulation; Harlem River, New York City, NY, Maintenance

AGENCY: Coast Guard, DHS.

ACTION: Notice of temporary deviation from regulations.

SUMMARY: The Commander, First Coast Guard District, has issued a temporary deviation from the regulation governing the operation of the Triborough (125 Street) Bridge across the Chelsea River, mile 1.3, at New York City, New York. Under this temporary deviation the bridge may remain in the closed position for four months to facilitate bridge maintenance. A three-week advance notice for openings will be available to allow vessel traffic that can not pass under the closed draw to transit.

DATES: This deviation is effective from September 5, 2008 through December 31, 2008.

ADDRESSES: Documents indicated in this preamble as being available in the docket are part of docket USCG-2008-0848 and are available online at http://www.regulations.gov. They are also available for inspection or copying at two locations: The Docket Management Facility (M-30), U.S. Department of Transportation, West Building Ground Floor, Room W12-140, 1200 New Jersey Avenue, SE., Washington, DC 20590, between 9 a.m. and 5 p.m., Monday through Friday, except Federal holidays, and the First Coast Guard District, Bridge Branch Office, 408 Atlantic Avenue, Boston, Massachusetts 02110, between 7 a.m. and 3 p.m., Monday through Friday, except Federal holidays.

FOR FURTHER INFORMATION CONTACT: If you have questions on this deviation, call Joe Arca, Project Officer, First Coast Guard District, at (212) 668-7165. If you have questions on viewing the docket, call Renee V. Wright, Program Manager, Docket Operations, telephone (202) 366-9826.

SUPPLEMENTARY INFORMATION: The Triborough (125 Street) Bridge, across the Harlem River at mile 1.3, has a vertical clearance in the closed position of 54 feet at mean high water and 59 feet at mean low water. The existing regulations are listed at 33 CFR 117.789(d).

The owner of the bridge, the Triborough Bridge & Tunnel Authority (TBTA), requested this temporary deviation to facilitate bridge maintenance.

Habitual users of the waterway normally can transit under the Triborough (125 Street) Bridge without requesting a bridge opening due to the size of the vessel traffic that frequently transits this waterway and the ample vertical clearance provided by the bridge in the closed position.

The Willis Avenue Bridge which is also located on the Harlem River upstream from the Triborough (125 Street) Bridge is presently undergoing replacement construction. As a result, construction crane barges occasionally will need to transit through the Triborough (125 Street) Bridge to facilitate the ongoing upstream construction. The contractor working on the Triborough (125 Street) Bridge has agreed to open the bridge for the passage of the crane barges, provided at least a three-week advance notice is given by calling the bridge owner at (212) 870-6470 or (212) 870-6428.

Under this temporary deviation the Triborough (125 Street) Bridge may remain in the closed position at all times; except that, the bridge shall open on signal after at least a three-week notice is given by calling (212) 870-6470 or (212) 870-6428.

In accordance with 33 CFR 117.35(e), the bridge must return to its regular operating schedule immediately at the end of the designated time period. This deviation from the operating regulations is authorized under 33 CFR 117.35.

Dated: September 1, 2008.
Gary Kassof,
Bridge Program Manager, First Coast Guard District.

[FR Doc. E8-21358 Filed 9-11-08; 8:45 am]

BILLING CODE 4910-15-P